DEPARTMENT OF AGRICULTURE

Forest Service

Information Collection; Understanding Relationships Between People and Local Land Use at the Francis Marion National Forest

AGENCY: Forest Service, USDA.

ACTION: Notice; request for comment.

SUMMARY: In accordance with the Paperwork Reduction Act of 1995, the Forest Service is seeking comments from all interested individuals and organizations regarding the new information collection entitled, “Understanding Relationships Between People and Local Land Use at the Francis Marion National Forest.”

DATES: Comments must be received in writing on or before January 20, 2004 to be assured of consideration. Comments received after that date will be considered to the extent practicable.

ADDRESSES: Comments concerning this notice should be addressed to Cassandra Johnson, Forestry Sciences Laboratory, Southern Research Station, Forest Service, USDA, 320 Green St., Athens, GA 30602-2044.

Comments also may be submitted to Cassandra Johnson via facsimile to (706) 559-4266 or by e-mail to cjohnson09@fs.fed.us.

The public may inspect comments received at the Forestry Sciences Laboratory, Southern Research Station, Forest Service, USDA, 320 Green St., Athens, Georgia, during normal business hours. Visitors are encouraged to call ahead to (706) 559-4222 to facilitate entry to the building.

FOR FURTHER INFORMATION CONTACT: Cassandra Johnson, Forestry Sciences Laboratory, at (706) 559-4270. Individuals who use telecommunication devices for the deaf (TDD) may call the Federal Relay Service (FRS) at 1-800-877-8339 twenty-four hours a day, every day of the year, including holidays.

SUPPLEMENTARY INFORMATION: Title: Understanding Relationships Between People and Local Land Use at the Francis Marion National Forest.

OMB Number: 0596-New.

Expiration Date of Approval: N/A.

Type of Request: New.

Abstract: There has been a considerable amount of controversy surrounding land use in rural, coastal regions of South Carolina. Press reports and anecdotal information indicate that some residents support initiatives that would encourage commercial and residential development in the region, while other residents strongly oppose such initiatives. The first objective of this information collection is to examine rural residents' knowledge and opinions regarding commercial and residential development in rural, upper Charleston County, South Carolina (Seewee to Santee region). The second objective is to learn more about the kinds of recreational activities in which local residents participate while visiting the Francis Marion National Forest, which is located in this region.

The National Forest-Dependent Rural Communities Economic Diversification Act of 1990 provides the authority for this information collection. This Act gives the Forest Service an opportunity to help rural communities, located in or near national forests, organize, plan, and implement rural development efforts. This proposed information collection seeks residents' opinions regarding use and management of non-Federal lands, as well as use and management of Federal lands that include the Francis Marion National Forest.

The Seewee to Santee region encompasses about 308 square miles with a population of approximately 4,500. The area includes two towns, Awendaw and McClellanville, and several unincorporated communities adjacent to these towns. Sections of the area are either within the boundary of the Francis Marion National Forest or are directly adjacent to the Forest.

Residents will be asked to respond to questions or statements in the following five categories: (1) Commercial and residential use of non-Federal land; (2) quality of drinking water and septic systems at respondent's primary residence; (3) resident involvement and connection to the local community; (4) national forest recreation visitation; and (5) demographic information.

Five hundred thirty respondents will be selected using a stratified random sample based on an estimate of individuals in the Seewee to Santee region at or below the poverty level, as defined by the U.S. Census. The U.S. Census Bureau uses income before taxes to compute the poverty rate. Such income includes earnings, unemployment compensation, social security, rents, and child support payments. Survey Sampling International (SSI), located in Fairfield, Connecticut, specializes in sample design and will provide addresses and phone numbers for potential respondents.

Undergraduate students at the College of Charleston in Charleston, South Carolina will collect data via face-to-face interviews with respondents. Dr. Angela C. Halfacre, with the Environmental Studies Program at the College of Charleston, will supervise the students. Students will send letters to potential respondents requesting an interview, follow-up with a telephone call to schedule the interview, and arrange a convenient time for the interview.

Forest Service research scientists with the Southern Research Station Forestry Sciences Lab in Athens, Georgia, will work with faculty in the Environmental Studies Program at the College of Charleston to analyze and evaluate the collected information, which will be published and available from the Southern Research Station in Asheville, South Carolina.

Estimate of Annual Burden: 15 minutes.

Type of Respondents: Rural residents in upper Charleston County, South Carolina.

Estimated Annual Number of Respondents: 530.

Estimated Annual Number of Responses per Respondent: 1.

Estimated Total Annual Burden on Respondents: 132.5.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use Of Comments

All comments received in response to this notice, including names and addresses when provided, will be a matter of public record. Comments will be summarized and included in the submission request toward Office of Management and Budget approval.

Dated: November 10, 2003.
Robert Lewis,
Deputy Chief for Research & Development.

[FR Doc. 03-28860 Filed 11-18-03; 8:45 am]

BILLING CODE 3410-11-P